FEDERAL COMMUNICATIONS COMMISSION

Notice of Public Information Collection(s) Being Reviewed by the Federal Communications Commission

December 6, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 14, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0799.

Title: FCC Ownership Disclosure Information for the Wireless Telecommunications Services.

Form No: FCC Form 602.

Type of Review: Revision of a currently approved collection.

Respondents: Business or other for-profit, not-for-profit institutions, and state, local and tribal government.

Number of Respondents: 13,565.

Estimated Time Per Response: .5-1.5 hours.

Frequency of Response: On occasion reporting requirement and third party disclosure requirement.

Total Annual Burden: 3,565 hours.

Total Annual Cost: $178,200.

Privacy Act Impact Assessment: Not applicable.

Needs and Uses: The Commission is revising the FCC Form 60-2 to request information from cellular filers reporting cellular cross-ownership holding required pursuant to 47 CFR 1.919 of the Commission's rules. The information will be used by the Commission to determine whether the filer is legally, technically and financially qualified to be licensed. Without such information the Commission could not determine whether to issue the licenses to the applicants that provide telecommunications services to the public and therefore fulfill its statutory responsibilities in accordance with the Communications Act of 1934, as amended. It will also be used to update the database and provide for proper use of the frequency spectrum.

OMB Control No.: 3060-1059.

Title: Global Mobile Personal Communications by Satellite (GMPCS)/E911 Call Centers.

Form No.: Not applicable.

Type of Review: Revision of a currently approved collection.

Respondents: Business or other for-profit.

Number of Respondents: 25.

Estimated Time Per Response: 1 hour.

Frequency of Response: Annual reporting requirement and recordkeeping requirement.

Total Annual Burden: 25 hours.

Total Annual Cost: $5,000.

Privacy Act Impact Assessment: Not applicable.

Needs and Uses: The Commission has revised this information collection to remove the pre-implementation status reports which were a one-time only requirement that has now past. This information collection has removed the burden hours and costs associated with this one-time requirement. Additionally, the Commission is now requiring mandatory electronic filing of the post-implementation reports. The mandatory electronic filing requirement of these reports is due to the Commission annually beginning on October 15, 2005.

The information collections that result from the E911 Scope Second Report and Order, FCC 04-201, IB Docket No. 99-67, are used by the Commission under its authority to license commercial satellite services in the United States. Without the collection of information that would result from these rules, the Commission would not be able to monitor the Mobile Satellite Services (MSS) carriers' establishment of call centers which are essential to provide emergency services, such as handling emergency 911 telephone calls from American citizens. The recordkeeping and reporting requirements include data on MSS call center use such as the aggregate number of calls that the call centers receive and the number of calls that required forwarding to a local Public Safety Answering Point (PSAP). The Commission will use this data to monitor compliance with the call center requirement and track usage trends. Such information would be useful to the Commission in considering whether FCC rules require modification to accommodate the changing market.

Federal Communications Commission.
Marlene H. Dortch,
Secretary.

[FR Doc. 04-27437 Filed 12-14-04; 8:45 am]

BILLING CODE 6712-01-P